DEPARTMENT OF HEALTH AND HUMAN SERVICES

Health Resources and Services Administration

Agency Information Collection Activities: Proposed Collection: Public Comment Request; Information Collection Request Title: Ryan White HIV/AIDS Program Client-Level Data Reporting System, OMB No. 0906-0039—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 24, 2024.

ADDRESSES: Submit your comments to paperwork@hrsa.gov or mail the HRSA Information Collection Clearance Officer, Room 14N39, 5600 Fishers Lane, Rockville, Maryland, 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Ryan White HIV/AIDS Program Client-Level Data Reporting System, OMB No. 0906-0039—Revision.

Abstract: The Ryan White HIV/AIDS Program (RWHAP), authorized under Title XXVI of the Public Health Service Act, is administered by the HIV/AIDS Bureau within HRSA. HRSA awards funding to recipients in areas of the greatest need to respond effectively to the HIV epidemic, with an emphasis on providing life-saving and life-extending medical care, treatment, and support services for people with HIV in the United States.

The RWHAP reporting requirements include the annual submission of client-level data in the Ryan White HIV/AIDS Program Services Report (RSR). The RSR is designed to collect information from grant recipients and their subawarded service providers, funded under Parts A, B, C, and D of the RWHAP statute.

HRSA is requesting a revision of the current RSR with one proposed update:

Current Questions

• Within your organization/agency, identify the number of physicians, nurse practitioners, or physician assistants who obtained a Drug Addiction Treatment Act of 2000 waiver to treat opioid use disorder with medication assisted treatment (MAT), [e.g., buprenorphine, naltrexone] specifically approved by the U.S. Food and Drug Administration.

• How many of the above physicians, nurse practitioners, or physician assistants prescribed MAT (e.g., buprenorphine, naltrexone) for opioid use disorders in the reporting period?

Proposed Change to Question in 2024 RSR Form

• How many physicians, nurse practitioners, or physician assistants in your organization prescribed medications for opioid use disorder (MOUD) [e.g., buprenorphine, naltrexone] for opioid use disorders during the reporting period?

Need and Proposed Use of the Information: The RWHAP statute specifies HRSA's responsibilities in administering grant funds, allocating funding, assessing HIV care outcomes (e.g., viral suppression), and serving particular populations. The RSR collects data on the characteristics of RWHAP-funded recipients, their contracted service providers, and the patients or clients served. The RSR system consists of two primary components, the Recipient Report, and the Provider Report, and a data file containing de-identified client-level data elements. Data are submitted annually. The RWHAP statute specifies the importance of recipient accountability and linking performance to budget. The RSR is used to ensure recipient compliance with the law, including evaluating the effectiveness of programs, monitoring recipient and provider performance, and informing annual reports to Congress. Information collected through the RSR is critical for HRSA, state and local grant recipients, and individual providers to assess the status of existing HIV-related service delivery systems, monitor trends in service utilization, evaluate the impact of data reporting, and identify areas of greatest need.

Likely Respondents: RWHAP grant recipients, as well as their subawarded service providers, funded under RWHAP Parts A, B, C, and D.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Recipient Report | 595 | 1 | 595 | 11 | 6,545
Provider Report | 2,063 | 1 | 2,063 | 13 | 26,819
Client Report | 1,532 | 1 | 1,532 | 113 | 173,116
Total | 4,190 |  | 4,190 |  | 206,480

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-08610 Filed 4-22-24; 8:45 am]

BILLING CODE 4165-15-P